DEPARTMENT OF ENERGY

Federal Energy Regulatory Commission

[Docket No. ER03-850-000, et al.]

Ohio Power Company, et al.; Electric Rate and Corporate Filings

May 23, 2003.

The following filings have been made with the Commission. The filings are listed in ascending order within each docket classification.

1. Ohio Power Company

[Docket No. ER03-805-000]

Take notice that on May 1, 2003, Ohio Power Company and Columbus Southern Power Company tendered for filing a Notice of Cancellation on FERC Electric Rate Schedule No. 70 and No. 17, consisting of a Power Delivery Agreement among Buckeye Power, Inc., the Cincinnati Gas & Electric Company, Columbus Southern Power Company, the Dayton Power and Light Company, Monongahela Power Company, Ohio Power Company and the Toledo Edison Company dated as of January 1, 1968.

Ohio Power Company and Columbus Southern Power Company state that the Notice of Cancellation has been served upon Buckeye Power, Inc., the Cincinnati Gas and Electric Company, the Dayton Power & Light Company, Monongahela Power Company and the Toledo Edison Company, and upon the Public Utilities Commission of Ohio.

Comment Date: June 3, 2003.

2. Southern California Edison Company

[Docket No. ER03-858-000]

Take notice that on May 21, 2003, Southern California Edison Company (SCE) tendered for filing a Letter Agreement between SCE and WM Energy Solutions, Inc. (WMES).

SCE states that copies of this filing were served upon the Public Utilities Commission of the State of California and WMES.

Comment Date: June 11, 2003.

3. The Connecticut Light and Power Company

[Docket No. ER03-859-000]

Take notice that on May 21, 2003, Northeast Utilities Service Company (NUSCO), on behalf of its affiliate The Connecticut Light and Power Company (CL&P), filed the executed Engineering, Licensing, Construction, Interconnection and Equipment Removal Agreement—Waterside Power Temporary Emergency Generation by and between CL&P and Waterside Power, LLC (Waterside) designated as Original Service Agreement No. 99 (Service Agreement) under Northeast Utilities System Companies' Open Access Transmission Tariff No. 9. NUSCO states that the Service Agreement is a new agreement establishing the terms and conditions under which Waterside's gas turbine electrical generating facility in Stamford, Connecticut will be temporarily interconnected to CL&P's transmission system for the summer of 2003.

NUSCO states that a copy of this filing has been sent to Waterside and that Waterside fully consents to and supports this filing. NUSCO and Waterside request an effective date for the Service Agreement of May 20, 2003, and request any waivers of the Commission's regulations that may be necessary to permit such an effective date.

Comment Date: June 3, 2003.

4. Sierra Pacific Industries

[Docket No. ER03-860-000]

Take notice that on May 21, 2003, Sierra Pacific Industries (SPI), filed with the Federal Energy Regulatory Commission an application for approval of its initial tariff (FERC Electric Tariff Original Volume No. 1), and for blanket approval for market-based rates pursuant to part 35 of the Commission's regulations.

SPI seeks blanket market-based rate authority as well as the waiver of those Commission rules generally granted to power marketers. SPI is a California corporation.

Comment Date: June 11, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-13740 Filed 6-2-03; 8:45 am]

BILLING CODE 6717-01-P